DEPARTMENT OF DEFENSE

Department of the Army

Intent To Prepare an Environmental Impact Statement for the Digital Multi-Purpose Range Complex at Fort Benning, GA

AGENCY: Department of the Army, DoD.

ACTION: Notice of intent.

SUMMARY: Fort Benning proposes to construct and operate a digital multi-purpose range complex (DMPRC). The DMPRC would provide a state-of-the-art range facility to meet the Army's training needs for soldiers to conduct gunnery courses in a realistic training environment by expanding the installation's training capacity. The current facilities (ranges) on Fort Benning do not meet modern gunnery standards and are inadequate to support full gunnery training and qualifications, requiring either training to modified standards or transporting units from Fort Benning to Fort Stewart, a distance of approximately 200 miles, for the required training. The project would include construction of the firing and target area, installation of fiber optics, construction of support facilities, upgrading of associated existing roadways, and construction of utilities to support the site. The proposed DMPRC would ensure soldiers are fully combat ready. The DMPRC would provide a suitable training range to fully support future needs of Army Transformation. Incorporating modern technology and range design into the DMPRC will allow Intermediate Brigade Combat Teams at Fort Benning to train more realistically and efficiently.

DATES: To be considered in the Draft EIS, comments and suggestion should be received not later than March 3, 2003.

ADDRESSES: Please direct written comments concerning the scope of the Digital Multi-Purpose Range Complex to Mr. Archibald Caldwell, Assistant Range Officer, Directorate of Training, U.S. Army Infantry Center, Attn: ATZB-OTR, Fort Benning, GA, 31905-5122 or e-mail to Caldwella@benning.army.mil.

FOR FURTHER INFORMATION CONTACT: Mr. Archibald Caldwell by telephone at (706) 545-3446 or by e-mail to Caldwella@benning.army.mil.

SUPPLEMENTARY INFORMATION: Fort Benning is the “Home of the Infantry” and conducts Program of Instruction training for Mechanized Infantry Students and sustainment training for elements of Mechanized Infantry Division units. Today's Army includes Mechanized Infantry units with both M2 Bradley Fighting Vehicles (BFVs) and M1A1 and M1A2 Abrams tanks. Although the Army is undergoing a transformation, Abrams tanks and BFVs will play vital roles in Army operations for a significant period of time (20-30 years). In addition to Infantry School training, Fort Benning is the home of several Forces Command deployable units and approximately 44 tank crews and 84 BFV crews. These assigned units are stationed at Fort Benning and must maintain their proficiency through required gunnery training. Consequently, Fort Benning needs a range that will accommodate all weapon systems that are relevant to ground warfare.

BFV crews and Abrams tank crews train for combat readiness by practicing and qualifying at different skill levels, known as gunnery Tables I through XII. Existing facilities on Fort Benning do not meet full training standards for BFV or Abrams tank training due to inadequate firing distance to the targets and width between the firing lanes. Currently Hastings Range (the existing facility) can only support a modified version of Table XII gunnery qualification training for the BFV and Abrams tank in a non-digitized environment. The digital component of the proposed DMPRC will enhance training by providing real time monitoring to increase safety and by providing feedback for after action reviews.

The proposed DMPRC would support Army Transformation by providing a quality range that would meet the training requirements of the current operational assets (Legacy Forces) as well as support the additional training requirements of the Intermediate Armored Vehicles to be used by the Intermediate Brigade Combat Teams.

Alternatives to be considered include:

1. No Action—Continue to conduct some modified gunnery training at Fort Benning and conduct remainder of gunnery training at existing ranges at Fort Stewart.

2. Transport to Fort Stewart (transport troops from Fort Benning to existing ranges at Fort Stewart to conduct all Table XII gunnery and related training).

3. Proposed Action—Conduct and operate DMPRC in Fort Benning Training Compartment D-13.

4. Construct DMPRC in Training Compartment K-21 on Fort Benning.

Scoping: A mailing list has been prepared for public scoping and review throughout the process of preparation of a draft Environmental Impact Statement (EIS). This list includes local, state, and Federal officials having jurisdictional expertise or other interests in the project; concerned citizens; conservation groups; and local news media. Comments received as a result of this notice will be used to assist the Army in identifying additional significant resources to be evaluated, as well as potential impacts to the quality of the human and natural environments. Individuals or organizations may participate in the scoping process by submitting written comments or attending a public scoping meeting. The time and location of the scoping meeting will be announced in the Columbus Ledger Enquirer, on the Fort Benning Web site (http://www.benning.army.mil/EMD/index.htm), and by public notice sent to parties on the mailing list. Comments concerning the scope of the EIS may also be submitted to the address listed above.

Robert L. Hope,
Chief of Staff, Installation Management Agency, Southeast Region.

[FR Doc. 03-2317 Filed 1-30-03; 8:45 am]

BILLING CODE 3710-08-M